DEPARTMENT OF COMMERCE

Foreign-Trade Zones Board

[B-50-2022]

Foreign-Trade Zone (FTZ) 196; Authorization of Production Activity; Prairie Industries Holdings, Inc. DBA Truvant; (Construction Toy Sets); Haslet, Texas

On November 10, 2022, Prairie Industries Holdings, Inc. DBA Truvant submitted a notification of proposed production activity to the FTZ Board for its facility within FTZ 196, in Haslet, Texas.

The notification was processed in accordance with the regulations of the FTZ Board (15 CFR part 400), including notice in the Federal Register inviting public comment (87 FR 69251, November 18, 2022). On March 10, 2023, the applicant was notified of the FTZ Board's decision that no further review of the activity is warranted at this time. The production activity described in the notification was authorized, subject to the FTZ Act and the FTZ Board's regulations, including section 400.14.

Dated: March 10, 2023.
Elizabeth Whiteman,
Acting Executive Secretary.

[FR Doc. 2023-05312 Filed 3-14-23; 8:45 am]

BILLING CODE 3510-DS-P